PEACE CORPS

Proposed Collection of Information

ACTION: Submission for Office of Management and Budget (OMB) review; comment request.

SUMMARY: The Peace Corps has submitted a proposed collection of information to the Office of Management and Budget (OMB) for review and clearance under the provisions of the Paperwork Reduction Act of 1995. This notice invites the public to comment on the proposed collection of information by the Peace Corps' Office of Communications. The Peace Corps invites comments on whether the proposed collection of information is necessary for proper performance of the functions of the Peace Corps, including whether the information will have practical use; the accuracy of the agency's estimate of the burden of the proposed collection of information, including the validity of the information to be collected; and ways to minimize the burden of the collection of information on those who respond, including through the use of automated collection techniques, when appropriate, and other forms of information technology.

DATES: Comments regarding this collection must be received on or before February 14, 2011.

ADDRESSES: Interested persons are invited to submit comments regarding this proposal. Comments should refer to the proposal by name/or OMB approval number and should be sent via e-mail to: oira_submission@omb.eop.gov or fax to: 202-395-3086. Attention: Desk Officer for Peace Corps.

FOR FURTHER INFORMATION CONTACT: Denora Miller, FOIA Officer, Peace Corps, 1111 20th Street, NW., Washington, DC 20526, (202) 692-1236, or e-mail at pcfr@peacecorps.gov. Copies of available documents submitted to OMB may be obtained from Denora Miller.

SUPPLEMENTARY INFORMATION: The purpose of this survey is to collect feedback from Peace Corps applicants and Returned Volunteers to help understand which factors are driving recruitment attrition, as well as what information or education needs would increase the conversion ratio. An online survey will be conducted among 1,200 Peace Corps applicants and Returned Peace Corps Volunteers including 300 from each of the following segments: Inquire—complete an initial inquiry but do not begin or submit an application; Begin application—but either do not submit it or move forward; Submit complete application—but then elect not to proceed by stopping communication or actively withdrawing during the review process; Returned Peace Corps Volunteers—who recently closed Peace Corps service in the past two years. Including Returned Peace Corps Volunteers in the study will provide information to understand what is working in the application process and will help guide the strategies for correcting the conversion loss. There is no statutory or regulatory requirement for this information.

Method: The information will be collected through an online survey.

Title: Peace Corps Conversion Loss Survey.

OMB Control Number: [To be assigned.]

Type of Review: New.

Affected Public: Former applicants to the Peace Corps and Returned Peace Corps Volunteers Respondents' obligation to reply: Voluntary.

Estimate of the total number of respondents: 1,200.

Estimated time to complete survey: 20 minutes.

Estimate of the total public burden (in hours): 400 hours.

Frequency of Response: 1 time.

Estimated number of respondents: 1,200.

General description of collection: To understand which factors are driving recruitment attrition, as well as what information or education needs would increase the conversion ratio.

Dated: January 10, 2011.
Earl W. Yates,
Associate Director for Management.

[FR Doc. 2011-766 Filed 1-13-11; 8:45 am]

BILLING CODE 6051-01-P